DEPARTMENT OF COMMERCE

International Trade Administration

[C-489-819]

Steel Concrete Reinforcing Bar From Turkey: Postponement of Preliminary Determination in the Countervailing Duty Investigation

AGENCY: Enforcement and Compliance, formerly Import Administration, International Trade Administration, Department of Commerce.

DATES: Effective Date: December 9, 2013.

FOR FURTHER INFORMATION CONTACT: Robert Copyak, AD/CVD Operations, Office III, Import Administration, U.S. Department of Commerce, Room C-100, 14th Street and Constitution Avenue NW., Washington, DC 20230; telephone: 202-482-2209.

SUPPLEMENTARY INFORMATION:

Background

On September 24, 2013, the Department of Commerce (the Department) initiated a countervailing duty investigation on steel concrete reinforcing bar from Turkey.¹ The original signature date for the preliminary determination was November 29, 2013. Subsequently, as explained in a memorandum from the Assistant Secretary for Enforcement and Compliance, the Department exercised its discretion to toll deadlines for the duration of the closure of the Federal Government from October 1, through October 16, 2013.² Accordingly, all deadlines in this investigation were extended by 16 days, and the signature date for the preliminary determination was revised to December 16, 2013.³

¹ See Steel Concrete Reinforcing Bar from Turkey: Initiation of Countervailing Duty Investigations, 78 FR 60831 (October 2, 2013) (Initiation Notice).

² See Memorandum for the Record from Paul Piquado, Assistant Secretary for Enforcement and Compliance, “Deadlines Affected by the Shutdown of the Federal Government” (October 18, 2013).

³ See Memorandum to the File titled “Revised Signature Date for Preliminary Determination,” dated October 24, 2013.

Postponement of the Preliminary Determination

Section 703(b)(1) of the Tariff Act of 1930, as amended (the Act), requires the Department to issue the preliminary determination in a countervailing duty investigation within 65 days after the date on which the Department initiated the investigation. However, if the petitioner makes a timely request for an extension in accordance with 19 CFR 351.205(b)(2), section 703(c)(1)(A) of the Act allows the Department to postpone the preliminary determination until no later than 130 days after the date on which the administering authority initiated the investigation.

On November 21, 2013, the Rebar Trade Action Coalition and its individual members, the petitioners in this investigation, requested that the deadline for the preliminary determination in this case be extended in accordance with 19 CFR 351.205(b)(2). Therefore, pursuant to section 703(c)(1)(A) of the Act, we are fully extending the due date for the preliminary determination. Because, as noted above, the Department tolled the original preliminary signature date to account for the Federal Government closure, the extension is effectively 65 days from the revised preliminary date of December 16, 2013. As a result, the deadline for completion of the preliminary determination is now February 19, 2014.

This notice is issued and published pursuant to section 703(c)(2) of the Act.

Dated: November 25, 2013.
Paul Piquado,
Assistant Secretary for Enforcement and Compliance.

[FR Doc. 2013-29336 Filed 12-6-13; 8:45 am]

BILLING CODE 3510-DS-P